NATIONAL AERONAUTICS AND SPACE ADMINISTRATION

[Notice 00-117]

NASA Advisory Council (NAC), Aero-Space Technology Advisory Committee (ASTAC); Airframe Systems Subcommittee; Meeting

AGENCY: National Aeronautics and Space Administration.

ACTION: Notice of meeting.

SUMMARY: In accordance with the Federal Advisory Committee Act, Public Law 92-463, as amended, the National Aeronautics and Space Administration announces a forthcoming meeting of the NASA Advisory Council, Aero-Space Technology Advisory Committee, Airframe Systems Subcommittee.

DATES: Tuesday, October 24, 2000, 8:30 a.m. to 5:30 p.m.; Wednesday, October 25, 2000, 8:30 a.m. to 5:30 p.m.; and Thursday, October 26, 2000, 8:30 a.m. to 12:00 Noon.

ADDRESSES: National Aeronautics and Space Administration, Langley Research Center, Building 1219, Room 225, Hampton, VA 23681-0001.

FOR FURTHER INFORMATION CONTACT: Darrel R. Tenney, National Aeronautics and Space Administration, Langley Research Center, Hampton, VA 23681, 757/864-6033.

SUPPLEMENTARY INFORMATION: The meeting will be open to the public up to the seating capacity of the room. The agenda for the meeting is as follows:

—Aerospace Vehicle Systems Technology Program (AVSTP) Overview—Strategic Direction and New Initiatives

—AVSTP Technical Reviews

—Research Facility Tours

It is imperative that the meeting be held on these dates to accommodate the scheduling priorities of the key participants.

Dated: September 22, 2000.
Beth M. McCormick,
Advisory Committee Management Officer, National Aeronautics and Space Administration.

[FR Doc. 00-24760 Filed 9-26-00; 8:45 am]

BILLING CODE 7510-01-U